DEPARTMENT OF ENERGY

Federal Energy Regulatory Commission

Combined Notice of Filings #1

Take notice that the Commission received the following exempt wholesale generator filings:

Docket Numbers: EG25-397-000.

Applicants: SMT Houston IV LLC.

Description: SMT Houston IV LLC submits Notice of Self-Certification of Exempt Wholesale Generator Status.

Filed Date: 7/21/25.

Accession Number: 20250721-5086.

Comment Date: 5 p.m. ET 8/11/25.

Take notice that the Commission received the following electric rate filings:

Docket Numbers: ER25-2537-001.

Applicants: Southwest Power Pool, Inc.

Description: Tariff Amendment: 1166R47 Oklahoma Municipal Power Authority NITSA and NOA—Amended to be effective 9/1/2025.

Filed Date: 7/21/25.

Accession Number: 20250721-5028.

Comment Date: 5 p.m. ET 8/11/25.

Docket Numbers: ER25-2898-000.

Applicants: 64NB 8me LLC.

Description: Initial Rate Filing: Application for Market-Based Rate Authorization, Request for Related Waivers to be effective 7/19/2025.

Filed Date: 7/18/25.

Accession Number: 20250718-5122.

Comment Date: 5 p.m. ET 8/8/25.

Docket Numbers: ER25-2899-000.

Applicants: Entergy Arkansas, LLC, Entergy Louisiana, LLC, Entergy Mississippi, LLC, Entergy New Orleans, LLC, Entergy Texas, Inc., Entergy Services, LLC.

Description: 205(d) Rate Filing: Entergy Arkansas, LLC submits tariff filing per 35.13(a)(2)(iii: MSS-4R Nuclear PTC to be effective 9/15/2025.

Filed Date: 7/18/25.

Accession Number: 20250718-5126.

Comment Date: 5 p.m. ET 8/8/25.

Docket Numbers: ER25-2900-000.

Applicants: PJM Interconnection, L.L.C.

Description: 205(d) Rate Filing: Amendment to ISA, Service Agreement No. 4316; Queue Position No. AE2-183 to be effective 9/20/2025.

Filed Date: 7/21/25.

Accession Number: 20250721-5020.

Comment Date: 5 p.m. ET 8/11/25.

Docket Numbers: ER25-2901-000.

Applicants: PJM Interconnection, L.L.C.

Description: 205(d) Rate Filing: Amendment to GIA, SA No. 7392; Project Identifier No. AF2-234 (amend) to be effective 9/20/2025.

Filed Date: 7/21/25.

Accession Number: 20250721-5021.

Comment Date: 5 p.m. ET 8/11/25.

Docket Numbers: ER25-2902-000.

Applicants: ISO New England Inc., Maine Electric Power Company, Inc.

Description: 205(d) Rate Filing: Maine Electric Power Company, Inc. submits tariff filing per 35.13(a)(2)(iii: ISO-NE and MEPCO; Revisions to Attachment H of the OATT to be effective 9/20/2025.

Filed Date: 7/21/25.

Accession Number: 20250721-5037.

Comment Date: 5 p.m. ET 8/11/25.

Docket Numbers: ER25-2904-000.

Applicants: Mid-Atlantic Interstate Transmission, LLC.

Description: 205(d) Rate Filing: MAIT submits amnded IA—SA No. 7222 to be effective 9/20/2025.

Filed Date: 7/21/25.

Accession Number: 20250721-5063.

Comment Date: 5 p.m. ET 8/11/25.

Docket Numbers: ER25-2905-000.

Applicants: American Transmission Systems, Incorporated.

Description: 205(d) Rate Filing: ATSI submits admnd Construction Agmt SA No. 7179 to be effective 9/20/2025.

Filed Date: 7/21/25.

Accession Number: 20250721-5064.

Comment Date: 5 p.m. ET 8/11/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organization, Tribal members and others, access publicly available information and navigate Commission processes. For public inquiries and assistance with making filings such as interventions, comments, or requests for rehearing, the public is encouraged to contact OPP at (202) 502-6595 or OPP@ferc.gov.

Dated: July 21, 2025.
Carlos D. Clay,
Deputy Secretary.

[FR Doc. 2025-13997 Filed 7-23-25; 8:45 am]

BILLING CODE 6717-01-P